DEPARTMENT OF AGRICULTURE

Forest Service

Gallatin County Resource Advisory Committee

AGENCY: Forest Service, USDA.

ACTION: Notice of meeting.

SUMMARY: The Gallatin National Forest's Gallatin County Resource Advisory Committee will meet in Bozeman, Montana. The committee is meeting as authorized under the Secure Rural Schools and Community Self-Determination Act and in compliance with the Federal Advisory Committee Act. The purpose of the meeting is to review the status of project proposals, discuss fourth year funding and public comments.

DATES: The meeting will be held on June 13, 2011, and will begin at 10 a.m.

ADDRESSES: The meeting will be held at the Bozeman Ranger District, 3710 Fallen St., Suite C, Bozeman, MT, then moving to one of the project areas near Bozeman (weather and roads permitting). Written comments should be sent to Babete Anderson, Custer National Forest, 1310 Main Street, Billings, MT 59105. Comments may also be sent via e-mail to branderson@fs.fed.us, or via facsimile to 406-657-6222.

All comments, including names and addresses when provided, are placed in the record and are available for public inspection and copying. The public may inspect comments received at Custer National Forest, 1310 Main Street, Billings, MT 59105. Visitors are encouraged to call ahead to 406-657-6205 ext. 239.

FOR FURTHER INFORMATION CONTACT: Babete Anderson, RAC coordinator, USDA, Custer National Forest, 1310 Main Street, Billings, MT 59105; (406) 657-6205 ext. 239; E-mail branderson@fs.fed.us.

Individuals who use telecommunication devices for the deaf (TDD) may call the Federal Information Relay Service (FIRS) at 1-800-877-8339 between 8 a.m. and 8 p.m., Mountain Standard Time, Monday through Friday.

SUPPLEMENTARY INFORMATION: The meeting is open to the public. The following business will be conducted: Review the status of project proposals, Discuss fourth year of funding and Public Comments. Persons who wish to bring related matters to the attention of the Committee may file written statements with the Committee staff before or after the meeting. Public input sessions will be provided and indiviuals who made written request by June 9, 2011, will have the opportunity to address the Committee at those sessions.

Dated: May 25, 2011.
Mary C. Erickson,
Acting Forest Supervisor.

[FR Doc. 2011-13632 Filed 5-31-11; 8:45 am]

BILLING CODE 3410-11-P